ENVIRONMENTAL PROTECTION AGENCY

40 CFR Part 751

[EPA-HQ-OPPT-2021-0057; FRL-8332-05-OCSPP]

RIN 2070-AK86

Asbestos Part 1; Chrysotile Asbestos; Regulation of Certain Conditions of Use Under the Toxic Substances Control Act (TSCA); Correction

AGENCY: Environmental Protection Agency (EPA).

ACTION: Final rule; correction.

SUMMARY: The Environmental Protection Agency (EPA) is correcting a final rule that appeared in the Federal Register of Thursday, March 28, 2024, which finalized the rule under the Toxic Substances Control Act (TSCA) to address to the extent necessary the unreasonable risk of injury to health presented by chrysotile asbestos based on the risks posed by certain conditions of use. The injuries to human health include mesothelioma and lung, ovarian, and laryngeal cancers resulting from chronic inhalation exposure to chrysotile asbestos.

DATES: This correction is effective on May 28, 2024.

ADDRESSES: The docket for this action, identified by docket identification (ID) number EPA-HQ-OPPT-2021-0057, is available online at https://www.regulations.gov. Additional instructions for visiting the docket, along with more information about dockets generally, is available at https://www.epa.gov/.

FOR FURTHER INFORMATION CONTACT: For technical information contact: Peter Gimlin, Existing Chemicals Risk Management Division (7405M), Office of Pollution Prevention and Toxics, Environmental Protection Agency, 1200 Pennsylvania Ave. NW, Washington, DC 20460-0001; telephone number: (202) 566-0515; email address: gimlin.peter@epa.gov.

For general information contact: The TSCA-Hotline, ABVI-Goodwill, 422 South Clinton Ave., Rochester, NY 14620; telephone number: (202) 554-1404; email address: TSCA-Hotline@epa.gov.

SUPPLEMENTARY INFORMATION: EPA is correcting the final rule that published in the Federal Register of Thursday, March 28, 2024 (89 FR 21970); FRL-8332-01-OCSPP) to address an inadvertent error made while numbering the paragraphs in § 751.515(c)(1).

Correction

In FR Doc. 2024-05972, appearing on page 21970 in the Federal Register of Thursday, March 28, 2024, the following correction is made:

§ 751.515 [Corrected]

On page 22010, in the third column, in § 751.515(c)(1), the paragraph designation “(vi)” is correctly designated as “(v)” and the paragraph designation “(vii)” is correctly designated as “(vi)”.

Dated: April 19, 2024.
Michal Freedhoff,
Assistant Administrator, Office of Chemical Safety and Pollution Prevention.

[FR Doc. 2024-08871 Filed 4-24-24; 8:45 am]

BILLING CODE 6560-50-P